DEPARTMENT OF AGRICULTURE

Rural Housing Service

Rural Business-Cooperative Service

Rural Utilities Service

Notice of Funds Availability Under the American Recovery and Reinvestment Act, 2009; Correction

AGENCIES: Rural Housing Service, Rural Business-Cooperative Service, and Rural Utilities Service, USDA.

ACTION: Notice.

SUMMARY: The Rural Housing Service (RHS), Rural Business-Cooperative Service (RBS), and Rural Utilities Service (RUS) published a document in the Federal Register on July 23, 2009, at 74 FR 36448. The document contained an error related to the Catalog of Federal Domestic Assistance number.

FOR FURTHER INFORMATION CONTACT: Requests for additional information regarding this correction should be directed to Michele Brooks, 202-690-1078.

SUPPLEMENTARY INFORMATION:

Need for Correction

The Catalog of Federal Domestic Assistance (CFDA) number for Broadband Loans and Grants is incorrectly identified, which could affect locating this program within the CFDA.

Correction of Publication

In the Federal Register of July 23, 2009, in FR Doc. E9-17512, on page 36450, column 2, under I. A. Affected Programs, the CFDA number “10.886” is corrected to read “10.787”.

Dated: July 28, 2009.
Dallas Tonsager,
Under Secretary, Rural Development.

[FR Doc. E9-18571 Filed 8-3-09; 8:45 am]

BILLING CODE P